DEPARTMENT OF HOUSING AND URBAN DEVELOPMENT

[Docket No. FR-5484-N-29]

Notice of Proposed Information Collection: Comment Request; Multifamily Financial Management Template

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: October 24, 2011.

ADDRESSES: Interested persons are invited to submit comments regarding this proposal. Comments should refer to the proposal by name and/or OMB Control Number and should be sent to: Colette Pollard, Reports Management Officer, Department of Housing and Urban Development, 451 7th Street, SW., Washington, DC 20410; or telephone (202) 402-3400.

FOR FURTHER INFORMATION CONTACT: Harry Messner, Housing Program Manager, Office of Asset Management, Department of Housing and Urban Development, 451 7th Street, SW., Washington, DC 20410, telephone (202) 708-2626 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Multifamily Financial Management Template.

OMB Control Number, if applicable: 2502-0551.

Description of the need for the information and proposed use: The Uniform Financial Reporting Standards (UFRS) regulation requires HUD's multifamily housing program participants to submit financial data electronically, using generally accepted accounting principles, in a prescribed format. HUD collects the financial information from participants to evaluate the financial condition of multifamily properties receiving Federal financial assistance. With the standardization of the data under UFRS, it has been easier for HUD to monitor compliance, and to identify and mitigate risks to the government.

Agency form numbers, if applicable: None.

Estimation of the total numbers of hours needed to prepare the information collection including number of respondents, frequency of response, and hours of response: The number of burden hours is 297,108. The number of respondents is 21,222, the number of responses is 21,222, the frequency of response is annually, and the burden hour per response is 14.

Status of the proposed information collection: This is a renewal of a previously approved collection.

Authority: The Paperwork Reduction Act of 1995, 44 U.S.C., Chapter 35, as amended.

Dated: August 17, 2011.
Ronald Y. Spraker,
Associate General Deputy Assistant Secretary for Housing-Associate Deputy Federal Housing Commissioner.

[FR Doc. 2011-21438 Filed 8-22-11; 8:45 am]

BILLING CODE 4210-67-P